FEDERAL COMMUNICATIONS COMMISSION

47 CFR Part 73

[DA No. 01-1015, MM Docket No. 01-93, RM-10076]

Radio Broadcasting Services; McCall, ID and Pinesdale, MT

AGENCY: Federal Communications Commission.

ACTION: Proposed rule.

SUMMARY: This document requests comments on a petition filed by Idaho Broadcasting Consortium, Inc. requesting the substitution of Channel 294C1 for Channel 294C2 at McCall, Idaho, and reallotment of Channel 294C1 from McCall, Idaho, to Pinesdale, Montana, and modification of the construction permit for Channel 294C2 to specify operation on Channel 294C1 at Pinesdale, Montana, as its community of license. Channel 294A was allotted to McCall, Idaho, in MM Docket No. 86-350, 52 FR 42438, November 5, 1987. Idaho Broadcasting Consortium, Inc. filed a first-come/first-serve and one-step application for the allotment at McCall as a C2 allotment in lieu of a Class A allotment. Idaho Broadcasting Consortium, Inc. was granted a construction permit for Channel 294C2 at McCall on December 8, 1999 (BPH-19971023MD) (not published in the Federal Register)). The coordinates for Channel 294C1 at Pinesdale are 46-10-07 and 114-17-06. Canadian concurrence will be requested for this allotment. In accordance with section 1.420(i) of the Commission's Rules, we shall not accept competing expressions of interest in the use of Channel 294C1 at Pinesdale.

DATES: Comments must be filed on or before June 11, 2001, and reply comments on or before June 26, 2001.

ADDRESSES: Federal Communications Commission, 445 Twelfth Street, SW., Washington, DC 20554. In addition to filing comments with the FCC, interested parties should serve the petitioner's counsel, as follows: Laura A. Otis, Rosenman & Colin LLP, 805 15th Street, NW., 9th Floor, Washington, DC 20005-2212.

FOR FURTHER INFORMATION CONTACT: Kathleen Scheuerle, Mass Media Bureau, (202) 418-2180.

SUPPLEMENTARY INFORMATION: This is a summary of the Commission's Notice of Proposed Rule Making, MM Docket No. 01-93, adopted April 11, 2001, and released April 20, 2001. The full text of this Commission decision is available for inspection and copying during normal business hours in the Commission's Reference Center, Washington, DC. The complete text of this decision may also be purchased from the Commission's copy contractors, International Transcription Services, Inc., 1231 20th Street, NW., Washington, DC 20036, (202) 857-3800, facsimile (202) 857-3805. Provisions of the Regulatory Flexibility Act of l980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Idaho, is amended by removing Channel 294A at McCall.

3. Section 73.202(b), the Table of FM Allotments under Montana, is amended by adding Pinesdale and Channel 294C1.

Federal Communications Commission.
John A. Karousos,
Chief, Allocations Branch, Policy and Rules Division, Mass Media Bureau.

[FR Doc. 01-12267 Filed 5-15-01; 8:45 am]

BILLING CODE 6712-01-P